DEPARTMENT OF THE INTERIOR

National Park Service

[NPS-WASO-NRNHL-DTS#-37150; PPWOCRADI0, PCU00RP14.R50000]

National Register of Historic Places; Notification of Pending Nominations and Related Actions

AGENCY: National Park Service, Interior.

ACTION: Notice.

SUMMARY: The National Park Service is soliciting electronic comments on the significance of properties nominated before December 16, 2023, for listing or related actions in the National Register of Historic Places.

DATES: Comments should be submitted electronically by January 10, 2024.

ADDRESSES: Comments are encouraged to be submitted electronically to National_Register_Submissions@nps.gov with the subject line “Public Comment on <property or proposed district name, (County) State.>” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION:

The properties listed in this notice are being considered for listing or related actions in the National Register of Historic Places. Nominations for their consideration were received by the National Park Service before December 16, 2023. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name(if applicable), Address/Boundary, City, Vicinity, Reference Number.

ALABAMA

Jefferson County

Seaboard Air Line Railway Freight Depot, 30 Twentieth St. S, Birmingham, SG100009643

ARKANSAS

Phillips County

Helm. Levon. Boyhood Home, Northeast Corner of Carruth Avenue and North Elm Street, Marvell, SG100009863

Pulaski County

Roland Cutoff site, Address Restricted, Roland vicinity, SG100009787

Mooshian-Brewer House, 4701 N Lookout Road, Little Rock, SG100009788

CALIFORNIA

Los Angeles County

Hollywood Bowl, 2301 N Highland Avenue, Los Angeles, SG100009637

Jones, A. Quincy, Barn, 10300 W Santa Monica Boulevard, Los Angeles, SG100009646

Ridgewood Place Historic District, both sides North Ridgewood Place, from Beverly Boulevard to 1st Street, Los Angeles, SG100009647

St. Andrews Square Historic District, Parts of both sides of St. Andrews Place, Gramercy Place, and Manhattan Place from Beverly Boulevard to 3rd Street, Los Angeles, SG100009648

San Francisco County

St. Luke's Episcopal Church, 1760 Van Ness Avenue, San Francisco, SG100009644

FLORIDA

Hillman-Pratt Funeral Home, (African American Architects in Segregated Jacksonville, 1865-1965 MPS), 525 West Beaver Street, Jacksonville, MP100009793

Flagler County

St. Mary Catholic Church, 89 Saint Mary Place, Bunnell vicinity, SG100009785

Gilchrist County

Gilchrist County Jail, 313 NW Second Street, Trenton, SG100009786

ILLINOIS

Cook County

Church of the Epiphany (Illinois Chapter of the Black Panther Party MPS), 201 S Ashland Ave., Chicago, MP98000067

Warren County

Brewer, May (Carns) and John E., House, 320 South First Street, Monmouth, SG100009641

Will County

Downtown Joliet Historic District, Roughly bounded by the western terminus of the Jefferson Street and Jackson Street bridges over the Des Plaines River and Ottawa and Joliet Streets on the west, Jefferson Street on the south, Scott and Chicago Streets on the east, and Cass and Irving St., Joliet, SG100009642

KANSAS

Douglas County

Trinity Lutheran Historic District, 1245 New Hampshire Street, Lawrence, SG100009777

MARYLAND

Baltimore Independent City

Upland (The Women's Suffrage Movement in Maryland MPS), 1022 St. George's Road, Baltimore, MP100009813

The Maryland Club, 1 East Eager St., Baltimore, SG100009814

MICHIGAN

Berrien County

Eden Springs Park, 789 M-139, Benton Harbor, SG100009649

Kent County

Clipper Belt Lacer Company Complex, 974-1010 Front Avenue NW, Grand Rapids, SG100009650

Washtenaw County

Groves Farm, 6015 Sutton Road, Northfield Township, SG100009651

NEW HAMPSHIRE

Carroll County

Bald Peak Colony Club, 180 Bald Peak Drive, Moultonbourough, SG100009636

NEW YORK

Columbia County

Copake Railroad Depot, 32 County Route 7A, Colpake, SG100009779

Erie County

Building at 1389 Delaware Avenue, 1389 Delaware Avenue, Buffalo, SG100009780

Rensselaer County

Catholic Central High School, 625 7th Avenue, Troy, SG100009781

Thomas S. Fagan & Mary Kate Fagan House, 2 Whitman Court, Troy, SG100009782

Suffolk County

Old Field Point Light Station (Light Stations of the United States MPS), 207 Old Field Road, Setauket, MP100009784

NORTH CAROLINA

Gaston County

Woodlawn Mill, 300 Woodlawn Avenue, Mount Holly, SG100009626

Granville County

Saint Catherine of Siena Catholic Church, 305 Williamsboro Street, Oxford, SG100009627

Guilford County

Minneola Manufacturing Company Mill, 106 Railroad Avenue, Gibsonville, SG100009628

Johnston County

Wood-Rains Cotton Gin, 206 W, Railroad Avenue, Princeton, SG100009629

Moore County

West Southern Pines School, 1250 West New York Avenue, Southern Pines, SG100009630

SOUTH DAKOTA

Custer County

Buffalo Gap Historic District (Boundary Decrease), (Rural Resources of Eastern Custer County MPS), Portions of Main, Second, and Walnut Streets, Buffalo Gap, BC100009859

Potter County

DeRouchey-Hageman Barn and Farmyard, 31276 155th Street, Gettysburg, SG100009810

Spink County

Conde Municipal Building, 160 2nd Street NE, Conde, SG100009811

Turton Jail, 350 feet west/northwest of the intersection of Ash and Front Streets, Turton, SG100009862

TEXAS

Bastrop County

Mary Christian Burleson House, 117 Louise Street, Elgin, SG100009778

WASHINGTON

King County

F/V Tordenskjold (West Coast Halibut Schooner), 860 Terry Avenue North, Seattle, SG100009631

Seattle Naval Hospital Chapel, 1902 NE 150th Street, Shoreline, SG100009645

Yakima County

Yakima Valley Filipino Community Hall, 211 W 2nd Street, Wapato, SG100009632

WISCONSIN

Outagamie County

Thern Farmstead, 425 East Fairview Drive, New London, SG100009774

An owner objection was received for the following resource(s):

NEW YORK

Rensselaer County

Papscanee Island Historic District, Papscanee Island, Castleton-on-Hudson vicinity, SG100009783

Additional documentation has been received for the following resource(s):

LOUISIANA

Lafayette Parish

St. John's Cathedral (Additional Documentation), St. John St. Lafayette, AD79001067

SOUTH DAKOTA

Custer County

Galena Creek Schoolhouse (Additional Documentation), (Schools in South Dakota MPS), 25151 Badger Clark Rd., Custer vicinity, AD100008618

TENNESSEE

Cheatham County

Cheatham County Courthouse (Additional Documentation), 100 Public Square, Ashland City, AD76001769

Grundy County

DuBose Memorial Church Training School (Additional Documentation), (Grundy County MRA (AD)), Fairmont and College Sts., Monteagle, AD80003802

Knox County

Westmoreland Water Wheel and Gatepost (Additional Documentation), (Knoxville and Knox County MPS), Jct. of Sherwood Dr. & Westland Ave., Knoxville, AD13000949

Montgomery County

Madison Street Historic District (Additional Documentation), (Clarksville MPS), Along Madison Street, Clarksville, AD99001393

A request for removal has been made for the following resource(s):

NEW YORK

Rensselaer County

Haskell School, 150 Sixth Ave., Troy, OT03000244

Authority: Section 60.13 of 36 CFR part 60.

Sherry A. Frear,
Chief, National Register of Historic Places/National Historic Landmarks Program.

[FR Doc. 2023-28396 Filed 12-22-23; 8:45 am]

BILLING CODE 4312-52-P